DEPARTMENT OF THE DEFENSE

Department of the Army, Corps of Engineers

Notice of Intent To Prepare an Environmental Impact Statement for the Nassau County Back Bays Coastal Storm Risk Management Feasibility Study

AGENCY: U.S. Army Corps of Engineers, DoD.

ACTION: Notice of intent.

SUMMARY: Pursuant to the requirements of the National Environmental Policy Act, the U.S. Army Corps of Engineers (Corps) plans to prepare an integrated Environmental Impact Statement (EIS) for the proposed Nassau County Back Bays (NCBB) Coastal Storm Risk Management (CSRM) Feasibility Study. The EIS will evaluate environmental impacts from reasonable project alternatives designed to reduce future flood risk in ways that support the long-term resilience and sustainability of the coastal ecosystem and surrounding communities due to sea level rise, local subsidence and storms; and to reduce the economic costs and risks associated with large scale flood and storm events in the area known as the Atlantic Coast of New York, the Nassau County Back Bays.

ADDRESSES: Send written comments and suggestions concerning the scope of issues to be evaluated within the EIS to Scott Sanderson, Project Manager, U.S. Army Corps of Engineers, Philadelphia District, Planning Division—Coastal Section, (CENAP-PL-PC), 100 Penn Square East, Wanamaker Building, Philadelphia, PA 19107-3390, scott.a.sanderson@usace.army.mil or via email to Angela Sowers, NEPA coordinator, angela.sowers@usace.army.mil.

FOR FURTHER INFORMATION CONTACT: Questions about the overall NCBB CSRM Feasibility Study should be directed to Scott Sanderson at scott.a.sanderson@usace.army.mil or (215) 656-6571.

SUPPLEMENTARY INFORMATION:

1. Background

As a result of Hurricane Sandy in October 2012, Congress passed Public Law 113-2, which authorized supplemental appropriations to Federal agencies for expenses related to the consequences of Hurricane Sandy. The Corps is investigating measures to reduce future flood risk in ways that support the long-term resilience and sustainability of the coastal ecosystem and surrounding communities, and reduce the economic costs and risks associated with flood and storm events. In support of this goal, the Corps completed the North Atlantic Coast Comprehensive Study (NAACS), which identified nine high risk areas on the Atlantic Coast for further analysis based on preliminary findings. The NCBB area was identified as one of the nine areas of high risk, or Focus Areas, that warrants an in-depth investigation into potential CSRM measures. During Hurricane Sandy, the study area communities were severely affected with large areas subjected to erosion, storm surge, and wave damage along the Atlantic Ocean shoreline, and flooding of communities within and surrounding bays. Along the Atlantic Ocean, surge and waves inundated low lying areas, and contributed to the flooding along the shoreline of the interior of the bays. Hurricane Sandy illustrated the need to re-evaluate the entire back-bay area as a system, when considering risk management measures.

The original Notice of Intent (NOI) to prepare an EIS was published in the Federal Register on Friday, April 21, 2017 (82 FR 18746), but was withdrawn by publication in the Federal Register on June 8, 2020 (85 FR 35801). The original NOI was withdrawn in order to align the rescoped study schedule with Executive Order (E.O.) 13807, “One Federal Decision Framework for the Environmental Review and Authorization Process for Major Infrastructure Projects under E.O. 13807.”

The purpose of the study is to determine the feasibility of a project to reduce the risk of coastal storm damage in the back bays of Nassau County, New York, while contributing to the resilience of communities, critical infrastructure, and the natural environment. The study is needed because the study area experiences frequent flooding from high tides, spring tides, sunny day flooding, and coastal storms; is considered at high risk to coastal storm flooding with an associated threat to life safety; includes a degraded back bay ecosystem; and is susceptible to relative sea level change.

On 5 February 2020, the NCBB CSRM Feasibility Study was granted an exemption from the requirement to complete the feasibility study within 3 years; required in Section 1001(a) of the Water Resources Reform and Development Act of 2014. The exemption was contingent on re-scoping the study to focus on critical infrastructure and highly vulnerable areas outside of Coastal Barrier Resources Act units. As a result, storm surge barriers are no longer under consideration at any of the inlets to the back bays from the Atlantic Ocean. The original NOI was withdrawn on June 8, 2020 (85 FR 35801) due to the need to re-scope and align updated schedules consistent with E.O. 13807. The NEPA coordination/review schedule for the re-scoped study is being aligned and coordinated with the appropriate Federal and state resource agencies, as required by E.O. 13807. This includes cooperating agencies that have statutory jurisdiction over the review process for any action being contemplated in the course of the feasibility study and development of the EIS.

Acknowledging the complex analyses required to comprehensively reevaluate the study area considering the influence of the Atlantic Ocean shorefront conditions on the back-bay system and the potential for large-scale marine construction to implement flood protection measures, an EIS will be prepared. The EIS will build upon the extensive Atlantic shoreline alternatives analysis and environmental and technical studies and outreach conducted to date. The scope of analysis will be appropriate to the level of detail necessary for an EIS and will receive input from the public and reviewing agencies. The analysis will provide the basis for the alternatives to problems associated with storm surge and wave damage along the back-bays. Public, agency and stakeholder comments and feedback will continue to be accepted at any time during the feasibility study and preparation of the EIS.

2. Study Area

The study area includes all of the tidally influenced bays and estuaries within Nassau County, New York, located on Long Island, NY, that are hydraulically connected to the south shore of Nassau County, directly east of Queens County and west of Suffolk County for approximately 98 square miles.

3. Corps Decision Making

As required by Council on Environmental Quality's Principles, Requirements and Guidelines for Water and Land Related Resources Implementation Studies (2013), alternatives to the proposed Federal action that meet the purpose and need will be considered in the EIS. These alternatives will include no action and a range of reasonable alternatives for managing flood risk within the Nassau County Back Bays Area. The measures to be evaluated will consider applicable public stakeholders and agency coordination received since the study commenced in 2017, and through future outreach efforts. Coordination early in the process identified concerns and potential impacts, relevant effects of past actions, and possible alternative actions that were pivotal in defining the re-scoped study. The decision making approach will allow time to address agency policy issues and build consensus among cooperating agencies and the public.

4. Scoping/Public Participation

Prior scoping meetings were held in May 2017 and June 2019. At this time, additional scoping meetings are not scheduled. However, input can be provided to the contacts identified here within, at any time during the feasibility study and preparation of the EIS. Public meetings will be conducted during the public review period of the draft EIS.

5. Lead and Cooperating Agencies

The Corps is the lead federal agency and the New York Department of Environmental Conservation (in partnership with Nassau County, NY) is the nonfederal sponsor for the study and the preparation of the EIS in meeting the requirements of the NEPA and its Implementing Regulations of the President's Council on Environmental Quality (40 CFR 1500-1508). The U.S. Fish and Wildlife Service (FWS), the National Oceanic and Atmospheric Administration (NOAA), the Federal Emergency Management Agency (FEMA), and the U.S. Environmental Protection Agency (EPA) have been identified as cooperating agencies. The preparation of the EIS will be coordinated with New York State and Nassau County offices with discretionary authority relative to the proposed actions. The Draft Integrated Feasibility Report/EIS is currently scheduled for distribution to the public in 2021.

Dated: September 4, 2020.
Karen J. Baker,
Programs Director, North Atlantic Division.

[FR Doc. 2020-20031 Filed 9-9-20; 8:45 am]

BILLING CODE 3720-58-P